DEPARTMENT OF THE INTERIOR

Bureau of Land Management

[LLNMP02000 L71220000.EX0000 LVTFGX9G4200]

Notice of Availability of the Final EIS for the HB In-Situ Solution Mine Project, Eddy County, New Mexico

AGENCY: Bureau of Land Management, Interior.

ACTION: Notice of Availability.

SUMMARY: In accordance with the National Environmental Policy Act of 1969, as amended, and the Federal Land Policy and Management Act of 1976, as amended, the Bureau of Land Management (BLM) has prepared a Final Environmental Impact Statement (Final EIS) for the HB In-Situ Solution Mine Project, and by this notice is announcing its availability.

DATES: The BLM will not issue a final decision on the proposal for a minimum of 30 days after the date that the Environmental Protection Agency publishes its Notice of Availability of the Final EIS in the Federal Register.

ADDRESSES: Copies of the HB In-Situ Solution Mining EIS are available for public inspection at the Carlsbad Field Office, 620 E. Greene St., Carlsbad, New Mexico 88220. Interested persons may also review the Final EIS on the Internet at http://www.nm.blm.gov/cfo/HBIS/index.html.

FOR FURTHER INFORMATION CONTACT: For further information contact David Alderman, Project Manager; telephone 575-234-6232; address 620 E. Greene St. Carlsbad, New Mexico 88220; email david_alderman@blm.gov. Persons who use a telecommunications device for the deaf (TDD) may call the Federal Information Relay Service (FIRS) at 1-(800) 877-8339 to contact the above individual during normal business hours. The FIRS is available 24 hours a day, 7 days a week, to leave a message or question with the above individual. You will receive a reply during normal business hours.

SUPPLEMENTARY INFORMATION: Intrepid Potash, Inc. (Intrepid) is proposing to extract the potash, a potassium compound commonly used for fertilizer, remaining in inactive underground mine workings using the solution mining method. Intrepid proposes to construct and operate a solution mine project in an existing deep mine located approximately 20 miles northeast of Carlsbad in Eddy County, New Mexico, in the Secretary's Potash Area.

The remaining potash left in the underground pillars and walls of the inactive workings is no longer accessible through conventional mining methods. The proposed action is to inject saline water into the mine workings and extract a mineral-rich solution. This mineral-rich solution would be pumped to the surface and transported through a series of surface pipelines to evaporation ponds. Once the solution evaporates in the ponds, the potassium-bearing salts would be harvested from the ponds and transported to a newly constructed mill for ore refinement.

The project area includes portions of the following:

New Mexico Principal Meridian

T. 19 S., R. 30 E., T. 19 S., R. 31 E., T. 20 S., R. 29 E., T. 20 S., R. 30 E., T. 20 S., R. 31 E., T. 21 S., R. 29 E., T. 21 S., R. 30 E.

Containing 38,453 acres more or less.

Eighty-two percent of the project area is on public lands managed by the BLM. There are 4,330 acres of open mine workings that are targeted for flooding and the total surface footprint of the project would range from 822 acres to 962 acres, depending on the alternative chosen. The surface footprint for the alternatives described in the draft EIS ranged from 822 acres to 907 acres. The 962-acre footprint evaluated in the final EIS is associated with Alternative D, the preferred alternative. Although it includes 55 more acres than Alternative B, evaluated in the draft and final EIS, this is not a substantial change relevant to environmental concerns because it does not result in substantially increased impacts to the environment. The surface disturbance for Alternative D represents an increase of only 6 percent over the proposed surface disturbance evaluated for Alternative B in the draft EIS and would not lead to any substantial change in impacts on water resources, ground subsidence, wildlife, vegetation, or any other environmental resource.

The BLM initiated the National Environmental Policy Act (NEPA) process for the HB In-Situ Solution Mine Project by preparing an environmental assessment (EA) in 2008. Two public scoping meetings were held on September 16, 2008, to receive public input and comments on the proposed project. During development of the EA and prior to publication, the BLM determined that the preparation of an EIS would be required for the proposed project. The Notice of Intent (NOI) to prepare an EIS for the HB In-Situ Solution Mine Project was published in the Federal Register on January 12, 2010, and two public scoping meetings were conducted on January 26, 2010. A scoping report was compiled and published on April 1, 2010. Major issues identified for this project include water use, ground subsidence, and the concurrent development of oil and gas resources in the same area.

Alternatives developed include the proposed action (Alternative A), which utilizes non-potable water supplied by seven wells in the Rustler Formation. Alternative B includes six of the seven wells from the proposed action but also assumes that a substantial portion of the water needed for the project would be supplied from fresh water wells in the Caprock Formation (Ogallala Aquifer) 30 miles northeast of the project area. An alternate routing of pipelines to the Caprock is also being considered under Alternative B. Alternative C buries the pipelines to reduce surface impacts. The Notice of Availability for the Draft EIS was published on April 15, 2011, starting a 60-day public comment period. Public scoping meetings were held in Carlsbad on May 10, 2011, and in Hobbs on May 11, 2011. Briefings were also held for several cooperating agencies. The comment period was extended by 2 weeks at the request of one of the cooperating agencies. Two hundred and seventeen unique comments were received and analyzed.

After considering the comments received on the Draft EIS, the BLM designed a preferred alternative, Alternative D, consisting of elements from the existing action alternatives. The preferred alternative includes: Using water from the southern Rustler wells only, with any shortfall made up with water from the Caprock well field; building the alternate Caprock pipeline from Alternative B to minimize impacts to sand dune lizard habitat; burying 68 percent of the pipelines in the project area including all the pipelines in the Hackberry Lake Special Recreation Management Area; increasing the size of the evaporation ponds by 60 acres; and incorporating minor changes to the power and pipeline routes to protect resources and improve efficiency.

Comments on the Draft EIS were considered and incorporated as appropriate into the proposed Final EIS. Public comments resulted in the addition of clarifying text and a preferred alternative consisting of elements from the other alternatives but did not significantly change the EIS.

Authority: 40 CFR 1506.6, 40 CFR 1506.10.

Jim Stovall,
Field Manager, Carlsbad Field Office.

[FR Doc. 2012-2375 Filed 2-2-12; 8:45 am]

BILLING CODE 4310-OX-P